DEPARTMENT OF DEFENSE

Department of the Army, Corps of Engineers

Notice of Availability for the Draft Environmental Impact Statement/Environmental Impact Report for Proposed Marine Terminal Development at Pier S and Back Channel Navigational Safety Improvements in the Port of Long Beach, Los Angeles County, CA

AGENCY: U.S. Army Corps of Engineers, DoD.

ACTION: Notice of availability.

SUMMARY: The U.S. Army Corps of Engineers, Los Angeles District (Regulatory Division), in coordination with the Port of Long Beach, has completed a Draft Environmental Impact Statement/Environmental Impact Report (DEIS/DEIR) for the Pier S Marine Terminal and Back Channel Improvement Project, encompassing approximately 210 acres of land and water. The development of Pier S and Back Channel improvements would result in an approximately 160-acre marine container terminal, and would include the following elements: Property acquisition; dredging, wharf construction, other waterside improvements, and container cranes; container yard and associated structures; terminal buildings and other structures; truck gates, associated structures, and roadwork; intermodal rail yard, structures, and dual rail lead; and utility and oil facility relocation. Construction duration is estimated at 22 months.

The Port of Long Beach requires authorization pursuant to Section 404 of the Clean Water Act, Section 10 of the Rivers and Harbors Act, and Section 103 of the Marine Protection, Research, and Sanctuaries Act, to implement various regulated activities in and over waters of the U.S. associated with developing Pier S. Pursuant to the California Environmental Quality Act (CEQA), the Port will serve as Lead Agency for the preparation of an Environmental Impact Report (EIR) for its consideration of development approvals within its jurisdiction. The Corps and the Port have agreed to jointly prepare a DEIS/DEIR in order to optimize efficiency and avoid duplication. The DEIS/DEIR is intended to be sufficient in scope to address federal, state, and local requirements and environmental issues concerning the proposed activities and permit approvals.

SUPPLEMENTARY INFORMATION:

1. Project Site and Background Information

The 160-acre Pier S site is located in the Port of Long Beach, in the Northwest, Northeast, and Middle Harbor Planning Districts. The site is bounded on the north by Cerritos Channel and Piers A and B (Stevedoring Services of America (SSA) and Toyota Motor Sales) ; on the east by Piers C and D; on the south by Southern California Edison (SCE) property, the Long Beach Generating Station, Ocean Boulevard and Pier T (BP Pipelines North American, Pacific Coast Recycling, Total Terminals International, and Weyerhaeuser Company; and on the west by State Route 47 (SR-47), the Vopak Terminal, and the Southeast Resource Recovery Facility (SERRF). The Back Channel is located east of the Pier S site. It is bounded on the north by the Inner Harbor Turning Basin and Pier A Terminal; on the east by Pier D; on the south by Middle Harbor; and on the west by Pier T. Currently, 63 acres of the total 160-acre terminal is paved with asphaltic concrete, and no marine terminal operations occur at Pier S.

The Pier S site is part of a 720-acre parcel sold by Union Pacific Resources Corporation (UPRC) to the Port in 1994. The site was formerly used as an active oil and gas production field from the 1930s until 1999. From 1951 to 1969, a portion of the site was leased by UPRC to TCL Corporation for the disposal of oil and gas drilling waste in shallow impoundments or “sumps.”

In March 1999, the Port of Long Beach Board of Harbor Commissioners approved a project to develop a marine container terminal on Pier S and certified the Pier S Marine Terminal EIR and Application Summary Report. Project components included relocation of oil facilities and utilities, site remediation, site preparation, dike realignment, wharf construction, and construction of other related terminal facilities. Site remediation was completed in December 2000. In July 2000, a safety issue was raised concerning the ability to move a ship safely in the Cerritos Channel while other ships were berthed at both Pier S and Pier A, across the channel. It was recommended that a minimum of 200 feet of total clearance be established in the channel (100 feet on each side of a maneuvering ship) to allow adequate clearance for the cranes on the wharf. In 2000, an Addendum to the Final EIR for the Pier S Marine Terminal was completed. The Addendum analyzed the proposed project modifications that would reduce impacts to navigational safety by widening the channel by 108 feet, bringing the total channel width to 808 feet. No significant new environmental impacts were identified in the Addendum EIR.

Since that time, however, the configuration of the proposed container terminal and related facilities has been substantially modified. It has also be determined that widening the Back Channel would be necessary to enhance navigational safety from Middle Harbor through the Back Channel to Cerritos Harbor in order to accommodate the number and size of ships anticipated to use Pier S. Furthermore, the Corps has determined that the scope of the in-water work requires preparation of an EIS. Accordingly, this DEIS/DEIR will consider the environmental impacts of the proposed marine terminal and Back Channel navigational safety improvements.

2. Proposed Action

Dredging of Cerritos Channel and Excavation of Adjacent Uplands

In order to allow for berthing of larger-class vessels and to improve navigational safety within the Cerritos Channel, the proposed project would involve widening of Cerritos Channel to to 808 feet between Pier A and future Pier S pierhead lines, including dredging of approximately 631,000 cubic yards of material from the Cerritos Channel and excavation of approximately 1,500,000 cubic yards of rock and sediment from the adjacent wharf (total disturbance area of approximately 39 acres), and re-alignment of approximately 1,600 feet of the existing riprap dike structure. Excavation would result in a conversion of 10.3 acres of uplands to open water. The minimum and maximum dredge depths extending 80 feet north of the future Pier S pierhead line would be −60 feet MLLW and −62 feet MLLW, respectively, including a 2-foot over-dredge allowance (overdepth). The proposed project would also include the installation of a 3,500-foot-long, 3-foot-thick, and 60- to 65-foot-deep soil-cement-bentonite barrier along the waterfront in order to prevent mixing of shallow (tidal) groundwater with stabilized sump material remaining from prior oil processing and remediation activities.

Dredging and Stabilization of Back Channel

In order to improve navigational safety within the Back Channel, the proposed project would also involve widening the Back Channel to a width of 323 feet and a depth of −52 feet (MLLW) plus up to 2 feet of overdepth, and widening the Back Channel Turning Basin at piers C, D, and S to a diameter of 1,200 feet and a depth of −52 feet (MLLW) plus up to 2 feet of overdepth. Total volumes of dredged and excavated material would be approximately 250,000 cubic yards of channel sediment and approximately 3,000 cubic yards of rock and soil from the adjacent wharf. Similar to Cerritos Channel, the Back Channel side slopes would be stabilized through the installation of a soil-cement embankment stabilization on both sides of the Back Channel and if necessary, at the turning basin, as well as through the placement of approximately 80,000 tons of rip-rap on the exposed slope.

Pier S Wharf

At present, the Pier S shoreline consists of a rocky slope along a non-uniform alignment and depth. Improvements to the shoreline and adjacent upland areas are proposed in order to safely and efficiently accommodate larger class, modern container transport vessels. Specifically, these improvements would include the installation of approximately 470,000 tons of imported quarry rock for erosion protection, installation of approximately 2,000 concrete support piles (up to 110 feet in length), and construction of a 3,200-linear-foot, steel-reinforced concrete wharf and associated crane rails and utilities.

Container Terminal

The proposed project would include construction of a new 160-acre container terminal at Pier S, including LEED-certified terminal buildings, above and below-ground utilities, storm drain system, 12 rail-mounted electric-powered gantry cranes, and intermodal rail yard (10-loading tracks), served by a new lead track along the terminal's southwest corner.

Modification of Existing Facilities and Infrastructure

In order to allow for navigational safety in the Back Channel the proposed project would involve removal of an abandoned power plant intake structure (Long Beach Generating Station), relocation of an oil facility, realignment of approximately 2,800 feet of the existing Pier T east lead track, and potential modifications to the outfall structure of the adjacent Long Beach Generating Station.

Disposal of Dredged Material

The proposed project would include disposal of approximately 631,000 cubic yards of dredged material and 1,500,000 cubic yards of excavated wharf material from Cerritos Channel, and 250,000 cubic yards of dredged material and approximately 3,000 cubic yards of excavated wharf material from Back Channel at the agency-approved Middle Harbor landfills (i.e., Piers D, E, and F). If required by timing or capacity constraints at the Middle Harbor sites, a small amount of chemically-suitable dredged material could be disposed of at the Western Anchorage Disposal Site and the approved LA-2 ocean disposal site following testing and agency approval.

3. Alternatives

Alternatives currently being considered include the following:

(1) Three-Berth Alternative—Container Terminal With Rail Access, Full-Length Wharf, and Back Channel Improvements (Proposed Project);

(2) Two-Berth Alternative—Container Terminal With Rail Access, Reduced-Length Wharf, and Back Channel Improvements;

(3) Multi-Use Storage Alternative (No Federal Action)—Multi-Use Storage Facility Without Wharf or Back Channel Improvements; and,

(4) No Project Alternative.

FOR FURTHER INFORMATION CONTACT: Copies of the document are available at http://www.polb.com/ceqa, as well as the following locations:

• Port of Long Beach Harbor Administration Building, 925 Harbor Plaza, Long Beach.

• Long Beach City Clerk, 333 W. Ocean Boulevard, Long Beach.

• Long Beach Main Library, 101 Pacific Avenue, Long Beach.

• San Pedro Regional Branch Library, 931 Gaffey Street, San Pedro.

• Wilmington Branch Library, 1300 N. Avalon Boulevard, Wilmington.

Questions about the proposed action and Draft EIS/EIR can be answered by John W. Markham, Corps Project Manager, at (805) 585-2150. Comments regarding the scope of the DEIS/DEIR shall be addressed to: U.S. Army Corps of Engineers, Los Angeles District, Ventura Field Office, ATTN: File Number SPL-2006-2062, 2151 Alessandro Drive, Suite 110, Ventura, California 93001. Alternatively, comments can be e-mailed to john.w.markham@usace.army.mil. Comments should also be sent to Richard D. Cameron, Port of Long Beach, P.O. Box 570, Long Beach, CA 90801-0570 or e-mailed to cameron@polb.com.

Public Hearing and Comment Period

The Port of Long Beach and U.S. Army Corps of Engineers will jointly hold a public hearing to receive public comments and to assess public concerns regarding the Draft EIS/EIR and project on October 5, 2011, starting at 7 p.m. (doors open at 6:30 p.m.) in the Long Beach City Council Chambers in Long Beach, 333 W. Ocean Blvd., Long Beach, California. Written comments will be accepted until the close of the 45-day public review on November 7, 2011.

Mark D. Cohen,
Deputy Chief, Regulatory Division Los Angeles District.

[FR Doc. 2011-24507 Filed 9-22-11; 8:45 am]

BILLING CODE 3720-58-P